DEPARTMENT OF THE INTERIOR

Fish and Wildlife Service

50 CFR Part 17

[Docket No. FWS-HQ-ES-2014-0055; 4500030113]

RIN 1018-BA63

Endangered and Threatened Wildlife and Plants; Adding 20 Coral Species to the List of Endangered and Threatened Wildlife

AGENCY: Fish and Wildlife Service, Interior.

ACTION: Final rule.

SUMMARY: We, the U.S. Fish and Wildlife Service (Service), in accordance with the Endangered Species Act of 1973, as amended (Act), are amending the List of Endangered and Threatened Wildlife (List) by adding 20 species of corals: Boulder star coral (Orbicella franksi), lobed star coral (Orbicella annularis), mountainous star coral (Orbicella faveolata), pillar coral (Dendrogyra cylindrus), rough cactus coral (Mycetophyllia ferox), Acropora globiceps, Acropora jacquelineae, Acropora lokani, Acropora pharaonis, Acropora retusa, Acropora rudis, Acropora speciosa, Acropora tenella, Anacropora spinosa, Euphyllia paradivisa, Isopora crateriformis, Montipora australiensis, Pavona diffluens, Porites napopora, and Seriatopora aculeata. These amendments are based on previously published determinations by the National Marine Fisheries Service (NMFS) of the National Oceanic and Atmospheric Administration, Department of Commerce, which has jurisdiction for these species.

DATES: This rule is effective November 13, 2014. Applicability date: The 20 coral listings were applicable as of October 10, 2014.

FOR FURTHER INFORMATION CONTACT: Douglas Krofta, Chief, Branch of Endangered Species Listing, U.S. Fish and Wildlife Service, MS-ES, 5275 Leesburg Pike, Falls Church, VA 22041-3803; 703-358-2171.

SUPPLEMENTARY INFORMATION:

Background

In accordance with the Act (16 U.S.C. 1531 et seq.) and Reorganization Plan No. 4 of 1970 (35 FR 15627; October 6, 1970), NMFS has jurisdiction over the marine and anadromous taxa identified in this rule. Under section 4(a)(2) of the Act, NMFS must decide whether a species under its jurisdiction should be classified as an endangered or threatened species. NMFS makes these determinations via its rulemaking process. We, the Service, are then responsible for publishing final rules to amend the List in title 50 of the Code of Federal Regulations (CFR) at 50 CFR 17.11(h).

On December 7, 2012, NMFS published a proposed rule (77 FR 73220) to list 66 petitioned coral species, 12 as endangered and 54 as threatened, and to reclassify from threatened to endangered two coral species (elkhorn coral (Acropora palmata) and staghorn coral (Acropora cervicornis)) already listed under the Act. NMFS solicited public comments on the proposed rule through March 7, 2013. On September 20, 2013, NMFS published a notice of 6-month extension of the deadline for the final coral species' determinations because of substantial disagreement regarding the sufficiency and accuracy of the data and analyses relevant to the proposed listing determinations (78 FR 57835).

On September 10, 2014, NMFS published a final rule (79 FR 53852) to list 20 of the 66 proposed coral species as threatened species. The listing of the 20 species was effective October 10, 2014. In that same rule, NMFS also determined that elkhorn coral and staghorn coral did not warrant reclassification from threatened to endangered. However, we revise the elkhorn coral and staghorn coral listings in this rule to make the information in the Historic Range column consistent with the other coral entries; the listing status of threatened remains unchanged for these two species.

In the September 10, 2014, final rule (79 FR 53852), NMFS addressed all public comments received in response to the proposed rule. By publishing this final rule, we are simply taking the necessary administrative step to codify these changes in the List in 50 CFR 17.11(h).

Administrative Procedure Act

Because NMFS provided a public comment period on the proposed rules for these taxa, and because this action of the Service to amend the List in accordance with the determination by NMFS is nondiscretionary, the Service finds good cause that the notice and public comment procedures of 5 U.S.C. 553(b) are unnecessary for this action. We also find good cause under 5 U.S.C. 553(d)(3) to make this rule effective immediately. The NMFS rules extended protection under the Act to these species and listed them in 50 CFR parts 223 and 224; this rule is an administrative action to add the species to the List of Endangered and Threatened Wildlife at 50 CFR 17.11(h). The public would not be served by delaying the effective date of this rulemaking action.

Required Determinations

National Environmental Policy Act

We have determined that an environmental assessment, as defined under the authority of the National Environmental Policy Act of 1969, need not be prepared in connection with regulations adopted pursuant to section 4(a) of the Act. We outlined our reasons for this determination in the Federal Register on October 25, 1983 (48 FR 49244).

List of Subjects in 50 CFR Part 17

Endangered and threatened species, Exports, Imports, Reporting and recordkeeping requirements, Transportation.

Regulation Promulgation

Accordingly, we amend part 17, subchapter B of chapter I, title 50 of the Code of Federal Regulations, as set forth below:

PART 17—[AMENDED]

1. The authority citation for part 17 continues to read as follows:

Authority: 16 U.S.C. 1361-1407; 1531-1544; 4201-4245, unless otherwise noted.

2. Amend § 17.11(h) under Corals by:

a. Revising the entries for “Coral, elkhorn” and “Coral, staghorn” to read as set forth below; and

b. Adding 20 entries in alphabetical order for: “Coral, [no common name]” (15 entries); “Coral, boulder star”; “Coral, lobed star”; “Coral, mountainous star”; “Coral, pillar”; and “Coral, rough cactus”, to read as follows:

§ 17.11 Endangered and threatened wildlife.

* * * * *

(h) * * *

Species: Common name | Species: Scientific name | Historic range | Vertebrate population where endangered or threatened | Status | When listed | Critical habitat | Special rules
* * * * * * *
Corals
Coral, [no common name] | Acropora globiceps | U.S.A. (Guam, Commonwealth of the Northern Mariana Islands, Pacific Remote Island Areas, American Samoa); and wider Indo-Pacific | Entire | T | 853 | NA | NA
Coral, [no common name] | Acropora jacquelineae | U.S.A. (American Samoa); and wider Indo-Pacific | Entire | T | 853 | NA | NA
Coral, [no common name] | Acropora lokani | Indo-Pacific | Entire | T | 853 | NA | NA
Coral, [no common name] | Acropora pharaonis | Indo-Pacific | Entire | T | 853 | NA | NA
Coral, [no common name] | Acropora retusa | U.S.A. (Guam, Commonwealth of the Northern Mariana Islands, Pacific Remote Island Areas, American Samoa); and wider Indo-Pacific | Entire | T | 853 | NA | NA
Coral, [no common name] | Acropora rudis | U.S.A. (American Samoa); and wider Indo-Pacific | Entire | T | 853 | NA | NA
Coral, [no common name] | Acropora speciosa | U.S.A. (Pacific Remote Island Areas, American Samoa); and wider Indo-Pacific | Entire | T | 853 | NA | NA
Coral, [no common name] | Acropora tenella | Indo-Pacific | Entire | T | 853 | NA | NA
Coral, [no common name] | Anacropora spinosa | Indo-Pacific | Entire | T | 853 | NA | NA
Coral, [no common name] | Euphyllia paradivisa | U.S.A. (American Samoa); and wider Indo-Pacific | Entire | T | 853 | NA | NA
Coral, [no common name] | Isopora crateriformis | U.S.A. (American Samoa); and wider Indo-Pacific | Entire | T | 853 | NA | NA
Coral, [no common name] | Montipora australiensis | Indo-Pacific | Entire | T | 853 | NA | NA
Coral, [no common name] | Pavona diffluens | Indo-Pacific | Entire | T | 853 | NA | NA
Coral, [no common name] | Porites napopora | Indo-Pacific | Entire | T | 853 | NA | NA
Coral, [no common name] | Seriatopora aculeata | U.S.A. (Guam, Commonwealth of the Northern Mariana Islands); and wider Indo-Pacific | Entire | T | 853 | NA | NA
Coral, boulder star | Orbicella franksi | U.S.A. (FL, PR, USVI, Gulf of Mexico); and wider Caribbean | Entire | T | 853 | NA | NA
Coral, elkhorn | Acropora palmata | U.S.A. (FL, PR, USVI); and wider Caribbean | Entire | T | 853 | 226.216 | 223.208
Coral, lobed star | Orbicella annularis | U.S.A. (FL, PR, USVI, Gulf of Mexico); and wider Caribbean | Entire | T | 853 | NA | NA
Coral, mountainous star | Orbicella faveolata | U.S.A. (FL, PR, USVI, Gulf of Mexico); and wider Caribbean | Entire | T | 853 | NA | NA
Coral, pillar | Dendrogyra cylindrus | U.S.A. (FL, PR, USVI); and wider Caribbean | Entire | T | 853 | NA | NA
Coral, rough cactus | Mycetophyllia ferox | U.S.A. (FL, PR, USVI); and wider Caribbean | Entire | T | 853 | NA | NA
Coral, staghorn | Acropora cervicornis | U.S.A. (FL, PR, USVI); and wider Caribbean | Entire | T | 853 | 226.216 | 223.208

* * * * *

Dated: November 4, 2014.
Stephen Guertin,
Acting Director, U.S. Fish and Wildlife Service.

[FR Doc. 2014-26893 Filed 11-12-14; 8:45 am]

BILLING CODE 4310-55-P